DEPARTMENT OF THE INTERIOR

Minerals Management Service

[Docket No. MMS-2008-OMM-0038]

MMS Information Collection Activity: 1010-0050, Pipelines and Pipeline Rights-of-Way, Revision of a Collection; Submitted for Office of Management and Budget (OMB) Review; Comment Request

AGENCY: Minerals Management Service (MMS), Interior.

ACTION: Notice of a revised information collection (1010-0050).

SUMMARY: To comply with the Paperwork Reduction Act of 1995 (PRA), we are notifying the public that we have submitted to OMB an information collection request (ICR) to revise an approval of the paperwork requirements in the regulations under 30 CFR 250, subpart J, Pipelines and Pipeline Rights-of-Way. This notice also provides the public a second opportunity to comment on the paperwork burden of these regulatory requirements.

DATES: Submit written comments by March 23, 2009.

ADDRESSES: You should submit comments directly to the Office of Information and Regulatory Affairs, OMB, Attention: Desk Officer for the Department of the Interior (1010-0050), either by fax (202) 395-6566 or e-mail (OIRA_DOCKET@omb.eop.gov).

Please also send a copy to MMS by either of the following methods:

• http://www.regulations.gov. Under the tab More Search Options, click Advanced Docket Search, then select Minerals Management Service from the agency drop-down menu, then click submit. In the Docket ID column, select MMS-2008-OMM-0038 to submit public comments and to view supporting and related materials available for this submission. Information on using Regulations.gov, including instructions for accessing documents, submitting comments, and viewing the docket after the close of the comment period, is available through the site's User Tips link. Submit comments to Regulations.gov by March 23, 2009. The MMS will post all comments.

• Mail or hand-carry comments to the Department of the Interior; Minerals Management Service; Attention: Cheryl Blundon; 381 Elden Street, MS-4024; Herndon, Virginia 20170-4817. Please reference Information Collection 1010-0050 in your subject line and include your name and return address.

FOR FURTHER INFORMATION CONTACT: Cheryl Blundon, Regulations and Standards Branch, (703) 787-1607. You may also contact Cheryl Blundon to obtain a copy, at no cost, of the regulation and forms that require the subject collection of information.

SUPPLEMENTARY INFORMATION: Title: 30 CFR 250, Subpart J, Pipelines and Pipeline Rights-of-Way.

Forms: MMS-149—Assignment of Federal OCS Pipeline Right-of-Way Grant and MMS-2030—Outer Continental Shelf (OCS) Pipeline Right-of-Way Grant Bond.

OMB Control Number: 1010-0050.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease, right-of-use and easement, and pipeline right-of-way (ROW). Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1334(e) authorizes the Secretary to grant ROWs through the submerged lands of the OCS for pipelines “ * * * for the transportation of oil, natural gas, sulphur, or other minerals, or under such regulations and upon such conditions as may be prescribed by the Secretary, * * * including (as provided in section 1347(b) of this title) assuring maximum environmental protection by utilization of the best available and safest technologies, including the safest practices for pipeline burial. * * *”

The Independent Offices Appropriations Act (31 U.S.C. 9701), the Omnibus Appropriations Bill (Pub. L. 104-133, 110 Stat. 1321, April 26, 1996), and the Office of Management and Budget (OMB) Circular A-25, authorize Federal agencies to recover the full cost of services that confer special benefits. Under the Department of the Interior's (DOI) implementing policy, the Minerals Management Service (MMS) is required to charge the full cost for services that provide special benefits or privileges to an identifiable non-Federal recipient above and beyond those that accrue to the public at large. Pipeline ROWs and assignments are subject to cost recovery, and MMS regulations specify filing fees for applications.

Regulations implementing these responsibilities are under 30 CFR part 250, subpart J. Responses are submitted to MMS on occasion and are mandatory or they are required to obtain or retain a benefit. No questions of a sensitive nature are asked. The MMS protects proprietary information according to the Freedom of Information Act (5 U.S.C. 552), its implementing regulations (43 CFR part 2), and 30 CFR 250.197, Data and information to be made available to the public or for limited inspection.

The MMS uses the information collected under subpart J to ensure that lessees and pipeline ROW holders design, install, maintain, and operate pipelines in a safe manner. The MMS needs information concerning the proposed pipeline and safety equipment, inspections and tests, and natural and manmade hazards near the proposed pipeline route. The MMS field offices use the information collected under subpart J to review pipeline designs prior to approving an application for an ROW or lease term pipeline to ensure that the pipeline, as constructed, will provide for safe transportation of minerals through the submerged lands of the OCS. They review proposed pipeline routes to ensure that the pipeline would not conflict with any State requirements or unduly interfere with other OCS activities. The MMS field offices review proposals for taking pipeline safety equipment out of service to ensure alternate measures are used that will properly provide for the safety of the pipeline and associated facilities (platform, etc.). They review notification of relinquishment of an ROW grant and requests to abandon pipelines to ensure that all legal obligations are met and pipelines are properly abandoned. The MMS inspectors monitor the records concerning pipeline inspections and tests to ensure safety of operations and protection of the environment and to schedule their workload to permit witnessing and inspecting operations. Information is also necessary to determine the point at which DOI or Department of Transportation (DOT) has regulatory responsibility for a pipeline and to be informed of the identified operator if not the same as the ROW holder.

The MMS uses two forms associated with this collection. They are forms:

MMS-149—Assignment of Federal OCS Pipeline Right-of-Way Grant. The MMS uses the information to track the ownership of pipeline ROWs. The MMS will use this information to update the corporate database, which is used to determine what leases are available for a Lease Sale and the ownership of all OCS leases.

MMS-2030—Outer Continental Shelf (OCS) Pipeline Right-of-Way Grant Bond.

The MMS uses this information to ensure compliance of Federal regulations by the surety and ROW holder guaranteeing that funds be made available to complete existing and future obligations.

Frequency: On occasion.

Estimated Number and Description of Respondents: Approximately 130 potential Federal oil or gas or sulphur lessees and/or operators; as well as 88 pipeline right-of-way holders.

Estimated Reporting and Recordkeeping Hour Burden: The estimated annual hour burden for this information collection is 76,864. The following chart details the individual components and estimated hour burdens. In calculating the burdens, we assumed that respondents perform certain requirements in the normal course of their activities. We consider these to be usual and customary and took that into account in estimating the burden.

Citation 30 CFR 250 Subpart J and related NTL(s) | Reporting & recordkeeping requirement | Non-hour cost burdens * (cost recovery fees): Hour burden | Non-hour cost burdens * (cost recovery fees): Average number of annual responses | Non-hour cost burdens * (cost recovery fees): Annual burden hours
Lease Term (L/T) Pipeline (P/L) Applications
1000(b)(1); 1004(b)(5); 1007(a) | Submit application and all required information and notices to install new L/T P/L | 145 | 201-new L/T P/L applications | 29,145
|  | $3,283 × 201 L/T P/L applications = $659,883
1000(b)(1); 1007(b) | Submit application and all required information and notices to modify a L/T P/L | 35 | 131 modifications | 4,585
|  | $1,906 × 131 L/T P/L applications = $249,686
Subtotal | 332 responses | 33,730
| $909,569 non-hour cost burdens
Right of Way (ROW) P/L Applications and Grants
1000(b)(2), (d); 1004(b)(5); 1007(a); 1009(a); 1011(a); 1015; 1016 | Submit application and all required information and notices for new P/L ROW grant and to install a new ROW P/L | 170 | 102-new ROW grant and P/L applications | 17,340
|  | $2,569 × 102 applications = $262,038
1000(b)(2), (3); 1007(b); 1017 | Submit application and all required information and notices to modify a P/L ROW grant and to modify an ROW P/L (includes route modifications, cessation of operations, partial relinquishments, hot taps, and new and modified accessory platforms) | 48 | 162 modifications | 7,776
|  | $3,865 × 162 applications = $626,130
1000(b)(3); 1010(h); 1019; 1017(b)(2) | Submit application and all required information and notices to relinquish P/L ROW grant | 7 | 128 relinquishments | 896
1011(a) | Provide surety bond using form MMS-2030 | GOM ¼ | 50 forms | 12.5
|  | Pacific 3.5 | 3 forms | 10.5
1015 | Submit application and all required information and notices for ROW grant to convert a lease-term P/L to an ROW P/L | 18 | 26 conversions | 468
|  | $219 × 26 applications = $5,694
1016 | Request opportunity to eliminate conflict when an application has been rejected | 2 | 1 request | 2
1018 | Submit application and all required information and notices for assignment of a pipeline ROW grant using Form MMS-149 (burden includes approximately 30 minutes to fill out form) | 16 | 201 assignments | 3,216
|  | $186 × 201 P/L ROW requests = $37,386
Subtotal | 673 responses | 29,721
| $931,248 non-hour cost burdens
Notifications and Reports
1004(b)(5) | In lieu of a continuous volumetric comparison system, request substitution; submit any supporting documentation if requested/required | 36 | 1 submittal | 36
1008(a) | Notify MMS before constructing or relocating a pipeline | ½ | 546 notices | 273
1008(a) | Notify MMS before conducting a pressure test | ½ | 750 notices | 375
1008(b) | Submit L/T P/L construction report | 17 | 149 reports | 2,533
1008(b) | Submit ROW P/L construction report | 17 | 112 reports | 1,904
1008(c) | Notify MMS of any pipeline taken out of service | ½ | 600 notices | 300
1008(d) | Notify MMS of any pipeline safety equipment taken out of service more than 12 hours | ⅕ | 5 notices | 1
1008(e) | Notify MMS of any repair and include procedures | 2 | 205 notices | 410
|  | $360 × 205 notices = $73,800
1008(e) | Submit repair report | 3 | 205 reports | 615
1008(f) | Submit report of pipeline failure analysis | 30 | 5 reports | 150
1008(g) | Submit plan of corrective action and report of any remedial action | 12 | 4 plans/reports | 48
1008(h) | Submit the results and conclusions of pipe-to-electrolyte potential measurements | ⅛ | 2,500 results | 312.5
1010(c) | Notify MMS of any archaeological resource discovery | 4 | 2 notices | 8
1010(d) | Notify MMS of P/L ROW holder's name and address changes | Not considered IC under 5 CFR 1320.3(h) |  | 0
Subtotal | 5,084 responses | ³ 6,966
| $73,800 non-hour cost burdens
General
1000(c)(2) | Identify in writing P/L operator on ROW if different from ROW grant holder | ¼ | 4 submissions | 1
1000(c)(3) | Mark specific point on P/L where operating responsibility transfers to transporting operator or depict transfer point on a schematic located on the facility. One-time requirement after final rule published; now part of application or construction process involving no additional burdens. |  |  | 0
1000(c)(4) | Petition MMS for exceptions to general operations transfer point description | 5 | 1 petition | 5
1000(c)(8) | Request MMS recognize valves landward of last production facility but still located on OCS as point where MMS regulatory authority begins (none received to date) | 1 | 1 request | 1
1000(c)(12) | Petition MMS to continue to operate under DOT regulations upstream of last valve on last production facility (one received to date) | 40 | 1 petition | 40
1000(c)(13) | Transporting P/L operator petition to DOT and MMS to continue to operate under MMS regulations (none received to date) | 40 | 1 petition | 40
1004(c) | Place sign on safety equipment identified as ineffective and removed from service | See footnote ¹ |  | 0
1007(a)(4) | Submit required documentation for unbonded flexible pipe | 150 | 12 submissions | 1,800
1000-1019 | General departure and alternative compliance requests not specifically covered elsewhere in subpart J regulations | 2 | 175 requests | 350
Subtotal | 195 responses | 2,237
Recordkeeping
1000-1008 | Make available to MMS design, construction, operation, maintenance, testing, and repair records on lease-term P/Ls ² | 5 | 130 lease-term P/L operators | 650
1005(a) | Inspect P/L routes for indication of leakage ¹, record results, maintain records 2 years ² | 2 per month = 24 | 130 lease-term P/L operators | 3,120
1010(g) | Make available to MMS design, construction, operation, maintenance, testing, and repair records on P/L ROW area and improvements ² | 5 | 88 P/L ROW holders | 440
Subtotal | 348 responses | 4,210
Total Hour Burden | 6,632 responses | 76,864
Total Non-Hour Cost Burden | $1,914,617 non-hour cost burdens
¹ These activities are usual and customary practices for prudent operators.
² Retaining these records is usual and customary business practice; required burden is minimal to make available to MMS.
³ Rounded.
* Due to rulemaking (August 25, 2008, 73 FR 49942) cost recovery fees increased, effective 9/24/08.

Estimated Reporting and Recordkeeping Non-Hour Cost Burden: We have identified seven non-hour cost burdens, all of which are cost recovery fees. However, note that the actual fee amounts are specified in 30 CFR 250.125, which provides a consolidated table of all of the fees required under the 30 CFR 250 regulations. The non-hour cost burden (cost recovery fees) total in this ICR is an estimated $1,914,617.

The non-hour cost burdens required in 30 CFR 250, subpart J (and respective cost-recovery fee amount per transaction) are required as follows:

• § 250.1000(b)—New Pipeline Application (lease term)—$3,283

• § 250.1000(b)—Pipeline Application Modification (lease term)—$1,906

• § 250.1000(b)—Pipeline Application Modification (ROW)—$3,865

• § 250.1008(e)—Pipeline Repair Notification—$360

• § 250.1015(a)—Pipeline ROW Grant Application—$2,569

• § 250.1015(a)—Pipeline Conversion from Lease term to ROW—$219

• § 250.1018(b)—Pipeline ROW Assignment—$186

We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 15, 2008, we published a Federal Register notice (73 FR 53274) announcing that we would submit this ICR to OMB for approval. The notice provided the required 60-day comment period. In addition, § 250.199 provides the OMB control number for the information collection requirements imposed by the 30 CFR part 250, subpart J regulation. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by March 23, 2009.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: January 27, 2009.
E.P. Danenberger,
Chief, Office of Offshore Regulatory Programs.

[FR Doc. E9-3664 Filed 2-19-09; 8:45 am]

BILLING CODE 4310-MR-P